DEPARTMENT OF HOMELAND SECURITY

Federal Emergency Management Agency

[Docket ID: FEMA-2011-0032; OMB No. 1660-0068]

Agency Information Collection Activities: Submission for OMB Review; Comment Request, Federal Hotel and Motel Fire Safety Declaration Form

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 16, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Federal Hotel and Motel Fire Safety Declaration Form.

Type of information collection: Extension, without change, of a currently approved information collection.

OMB Number: 1660-0068.

Form Titles and Numbers: FEMA Form 516-0-1, Federal Hotel and Motel Fire Safety Declaration Form.

Abstract: FEMA collects information voluntarily offered by places of accommodation regarding the existence of smoke detectors and automatic fire sprinkler systems. The information is compiled as a National Master List of lodging establishments meeting minimum criteria for life-safety from fire, as defined in the Hotel and Motel Fire Safety Act of 1990. The list is used by Federal employees to select lodging for work-related travel and by the general public seeking life-safety while traveling.

Affected Public: Business or other for-profit; State, local or Tribal Government.

Estimated Number of Respondents: 2,294.

Frequency of Response: On occasion.

Estimated Average Hour Burden per Respondent: Federal Hotel and Motel Fire Safety Declaration Form, FEMA Form 516-0-1, 15 minutes; Review of FEMA Form 516-0-1, 20 minutes.

Estimated Total Annual Burden Hours: 694 hours.

Estimated Cost: The estimated annual cost to respondents for the hour burden is $25,357. There are no annual costs to respondents operations and maintenance costs for technical services. There is no annual start-up or capital costs. The cost to the Federal Government is $71,141.

John G. Jenkins, Jr.,
Acting Director, Records Management Division, Mission Support Bureau, Federal Emergency Management Agency, Department of Homeland Security.

[FR Doc. 2012-630 Filed 1-13-12; 8:45 am]

BILLING CODE 9111-45-P